DEPARTMENT OF JUSTICE

Antitrust Division

Notice Pursuant to the National Cooperative Research and Production Act of 1993—Radio Work Order Collaboration

Notice is hereby given that, on September 22, 2006, pursuant to Section 6(a) of the National Cooperative Research and Production Act of 1993, 15 U.S.C. 4301 et seq. (“the Act”), Radio Work Order Collaboration (“RWOC”) has filed written notifications simultaneously with the Attorney General and the Federal Trade Commission disclosing (1) the identities of the parties to the venture and (2) the nature and objectives of the venture. The notifications were filed for the purpose of invoking the Act's provisions limiting the recovery of the antitrust plaintiffs to actual damages under specified circumstances.

Pursuant to Section 6(b) of the Act, the identities of the parties to the venture are: BMW of North America, LLC, Woodcliff Lake, NJ; DaimlerChrysler Research and Technology North America, Inc., Palo Alto, CA; TechnoCom Corporation, Encino, CA; TransCore, LP, Hummelstown, PA; Mark IV IVHS, Inc., Flemington, NJ; Sirit Technology, Inc., Carrollton, TX; and DENSO International America, Inc., Southfield, MI. The general area of RWOC's planned activity is the development of radio subsystems as part of the development and deployment of a national infrastructure to enable data collection and exchange in real time between vehicles and between vehicles and the roadway.

Patricia A. Brink,
Deputy Director of Operations, Antitrust Division.

[FR Doc. 06-8911 Filed 10-26-06; 8:45 am]

BILLING CODE 4410-11-M